FEDERAL RETIREMENT THRIFT INVESTMENT BOARD

Sunshine Act; Notice of Meeting

Time and Date: 9 a.m. (Eastern Time) May 18, 2009.

Place: 4th Floor Conference Room, 1250 H Street, NW., Washington, DC 20005.

Status: Parts will be open to the public and parts closed to the public.

Matters To Be Considered:

Parts Open to the Public

1. Approval of the minutes of the April 20, 2009 Board member meeting.

2. Thrift Savings Plan activity report by the Executive Director.

a. Participant Activity Report.

b. Investment Performance Report.

c. Legislative Report.

3. Web site Re-Design Project.

4. Mid-year Budget Review.

Parts Closed to the Public

5. Personnel.

Contact Person for More Information: Thomas J. Trabucco, Director, Office of External Affairs, (202) 942-1640.

Dated: May 8, 2009.
Thomas K. Emswiler,
Secretary, Federal Retirement Thrift Investment Board.

[FR Doc. E9-11220 Filed 5-11-09; 11:15 am]

BILLING CODE 6760-01-P